DEPARTMENT OF JUSTICE

Notice of Lodging of Proposed Consent Decree Under the Comprehensive Environmental Response, Compensation, and Liability Act

On August 26, 2014, the Department of Justice lodged a proposed consent decree with the United States District Court for the Western District of Michigan in the lawsuit entitled United States v. The Estate of F. Paul Meeuwenberg, et al., Civil Action No. 1:14-cv-907.

The proposed consent decree fully resolves claims of the U.S. Environmental Protection Agency (“EPA”) against the Estate of F. Paul Meeuwenberg (“Estate”) and Richard A. Meeuwenberg, in his capacity as Representative of the Estate, (collectively “Settling Defendants”) for response costs and injunctive relief under the Comprehensive Environmental Response, Compensation, and Liability Act (“CERCLA”), 42 U.S.C. 9601-9675, regarding the Grand Traverse Overall Supply Superfund Site (“Site”) in Greilickville, Michigan. A complaint, which was filed at the same time that the United States lodged the proposed consent decree, alleges the Settling Defendants are liable as successors to F. Paul Meeuwenberg (deceased), who was an owner and operator of the Site during the period of disposal of hazardous substances and, as such, liable for response costs and injunctive relief under Sections 106 and 107(a) of CERCLA, 42 U.S.C. 9606 and 9607(a). Under the proposed consent decree, the Settling Defendants shall, within 30 days of the entry of the Consent Decree, make a lump sum payment of $1,000,860 to EPA as reimbursement of response costs.

The publication of this notice opens a period for public comment on the proposed consent decree. Comments should be addressed to the Assistant Attorney General, Environment and Natural Resources Division, and should refer to United States v. The Estate of F. Paul Meeuwenberg, et al., D.J. Ref. No. 90-11-3-10315. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, D.C. 20044-7611.

During the public comment period, the proposed consent decree may be examined and downloaded at this Justice Department Web site: http://www.usdoj.gov/enrd/Consent_Decrees.html. We will also provide a paper copy of the proposed consent decree upon written request and payment of reproduction costs. Please mail your request and payment to: Consent Decree Library, U.S. DOJ—ENRD, P.O. Box 7611, Washington, DC 20044-7611.

Please enclose a check or money order for $6.00 (24 pages at 25 cents per page reproduction cost) payable to the United States Treasury.

Maureen Katz,
Assistant Section Chief, Environmental Enforcement Section, Environment and Natural Resources Division.

[FR Doc. 2014-20637 Filed 8-28-14; 8:45 am]

BILLING CODE 4410-15-P